DEPARTMENT OF THE TREASURY

Internal Revenue Service

Meeting of the Pacific-Northwest Citizen Advocacy Panel

ACTION: Notice.

SUMMARY: An open meeting of the Pacific-Northwest Citizen Advocacy Panel will be held in Honolulu, Hawaii.

DATES: The meeting will be held Friday January 12, 2001 and Saturday January 13, 2001.

FOR FURTHER INFORMATION CONTACT: Judi L. Nicholas at 1-888-912-1227 or 206-220-6096.

SUPPLEMENTARY INFORMATION: Notice is hereby given pursuant to Section 10(a)(2) of the Federal Advisory Committee Act, 5 U.S.C. App. (1988) that an open meeting of the Citizen Advocacy Panel will be held Friday January 12, 2001, 9 a.m. to Noon at the HEI Training Center located at Pacific Tower, Room 805, 1001 Bishop Street, Honolulu, HI 96813; 1:30 p.m. to 4:30 p.m. at the Internal Revenue Service Federal Building located at 300 Ala Moana Blvd., Honolulu, HI 96813 and Saturday January 13, 2001, 8 a.m. to Noon at the Internal Revenue Service Federal Building located at 300 Ala Moana Blvd., Honolulu, HI 96813. The public is invited to make oral comments. Individual comments will be limited to 10 minutes. If you would like to have the CAP consider a written statement, please call 1-888-912-1227 or 206-220-6096, or write Judi L. Nicholas, CAP Office, 915 2nd Avenue, Room 442, Seattle, WA 98174. Due to limited conference space, notification of intent to attend the meeting must be made with Judi L. Nicholas. Ms. Nicholas can be reached at 1-888-912-1227 or 206-220-6096.

The Agenda will include the following: various IRS issue updates and reports by the CAP sub-groups.

Note: Last minute changes to the agenda are possible and could prevent effective advance notice.

Dated: December 13, 2000.
Cathy VanHorn,
Director, Citizen Advocacy Panel, Communications and Liaison.

[FR Doc. 00-32482 Filed 12-20-00; 8:45 am]

BILLING CODE 4830-01-U